DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by October 17, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Sheila Arias, University of Idaho, Moscow, ID, PRT-157271

The applicant requests a permit to import biological samples from ocelot (Leopardus pardalis), tiger cat (Leopardus tigrinus) and margay (Leopardus wiedii) from Profelis-Hacienda Matambu, Puntarenas, Costa Rica for the purpose of enhancement of the species through scientific research. This notification covers activities conducted by the applicant for a five-year period.

Applicant: University of Anthropology, University of Massachusetts, Amherst, MA, PRT-160360

The applicant requests a permit to import biological samples collected from brown mouse lemurs (Microcebus rufus) and greater dwarf lemurs (Cheirogaleus major) in Madagascar for the purpose of enhancement of the survival of the species through scientific research. This notification covers activities to be conducted by the applicant over a five-year period.

Applicant: Jay E. Link, Minong, WI, PRT-162071

The applicant requests a permit to import the sport-hunted trophy of one male bontebok (Damaliscus pygargus pygargus) culled from a captive herd maintained under the management program of the Republic of South Africa, for the purpose of enhancement of the survival of the species.

Applicant: Ferdinand & Anton Fercos Hantig, Las Vegas, NV, PRT-073403, 073404

The applicant requests permits to export two captive-born tigers (Panthera tigris) to worldwide locations for the purpose of enhancement of the species through conservation education. The permit numbers and animals are: 073403, Victoria and 073404, Picasso. This notification covers activities to be conducted by the applicant over a three-year period and the import of any potential progeny born while overseas.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: North Slope Borough Department of Wildlife Management, Barrow, AK, PRT-134907

The applicant requests a permit to collect tissue specimens from dead and salvaged walrus (Odobenus rosmarus) and polar bears (Ursus maritimus) that are either taken in subsistence hunts (up to 100 walrus and 40 polar bears sampled annually) or found dead and stranded in the wild (up to 20 walrus and 10 polar bears sampled annually) for the purpose of scientific research on the health status of the species' population stocks. This notification covers activities to be conducted by the applicant over a five-year period.

Concurrent with the publication of this notice in the Federal Register, the Division of Management Authority is forwarding copies of the above application to the Marine Mammal Commission and the Committee of Scientific Advisors for their review.

Applicant: Richard L. Bodkin, Remsemburg, NY, PRT-162183

The applicant requests a permit to import a polar bear (Ursus maritimus) sport hunted from the Norwegian Bay polar bear population in Canada for personal, noncommercial use.

Applicant: William Katen, Patchoque, NY, PRT-162184

The applicant requests a permit to import a polar bear (Ursus maritimus) sport hunted from the Norwegian Bay polar bear population in Canada for personal, noncommercial use.

Applicant: Alan Walter Maki, Alpine, WY, PRT-154550

The applicant requests a permit to import a polar bear (Ursus maritimus) sport hunted from the Viscount Melville Sound bear population in Canada for personal, noncommercial use.

Dated: August 24, 2007.
Lisa J. Lierheimer,
Senior Permit Biologist, Branch of Permits, Division of Management Authority.

[FR Doc. E7-18279 Filed 9-14-07; 8:45 am]

BILLING CODE 4310-55-P